DEPARTMENT OF THE TREASURY

Internal Revenue Service

Notice of Renewal Charter and Filing Letters

AGENCY: Internal Revenue Service (IRS); Tax Exempt and Government Entities Division.

ACTION: Notice of renewal charter and filing letters.

SUMMARY: In accordance with the Federal Advisory Committee Act, Public Law 92-462, a renewal charter has been filed for the IRS Advisory Committee on Tax Exempt and Government Entities (ACT). The renewal charter was filed on une 3, 2011, with the Committee on Finance of the United States Senate, the ommittee on Ways and Means of the U.S. House of Representatives, and the Library of Congress. The renewal charter and copies of these filing letters are attached.

SUPPLEMENTARY INFORMATION: The Advisory Committee on Tax Exempt and Government Entities (ACT), governed by the Federal Advisory Committee Act, Public Law 92-463, is an organized public forum for discussion of relevant employee plans, exempt organizations, tax-exempt bonds, and federal, state, local and Indian tribal government issues between officials of the IRS and representatives of the above communities. The ACT also enables the IRS to receive regular input with respect to the development and implementation of IRS policy concerning these communities. ACT members present the interested public's observations about current or proposed IRS policies, programs and procedures, as well as suggest improvements.

Dated: June 6, 2011.
Roberta B. Zarin,
Designated Federal Official, Tax Exempt and Government Entities Division, Internal Revenue Service.

[FR Doc. 2011-14618 Filed 6-13-11; 8:45 am]

BILLING CODE 4830-01-P